DEPARTMENT OF AGRICULTURE

Food and Nutrition Service

Agency Information Collection Activities: Pandemic Electronic Benefits Transfer

AGENCY: Food and Nutrition Service (FNS), USDA.

ACTION: Notice.

SUMMARY: In accordance with the Paperwork Reduction Act of 1995, this notice invites the general public and other public agencies to comment on this proposed information collection. This is a revision of a currently approved information collection for Pandemic Electronic Benefits Transfer (P-EBT) for the reporting burden associated with administering P-EBT.

DATES: Written comments must be received on or before July 12, 2021.

ADDRESSES: Comments may be submitted via email to Ed Harper, Director, Office of Program Integrity, Food and Nutrition Service, U.S. Department of Agriculture, Braddock Metro Center II, 1320 Braddock Place, Alexandria, VA 22314, 703-305-2340. Comments may also be submitted via email to SM.FN.PEBT@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed via email to SM.FN.PEBT@usda.gov.

Requests can also be directed to Ed Harper, U.S. Department of Agriculture Food and Nutrition Service, Braddock Metro Center II, 1320 Braddock Place, Alexandria, VA 22314, 703-305-2340.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Pandemic EBT.

Form Number: FNS-292B, FNS-388, FNS-46, FNS-366A, and SF-425 (under OMB Control Number 0584-0594) is associated with this collection.

OMB Number: 0584-0660.

Expiration Date: August 31, 2021.

Type of Request: Revision of a currently approved collection.

Abstract: The Families First Coronavirus Response Act of 2020 (FFCRA, Pub. L. 116-127), enacted March 18, 2020, included a general provision that allows the Department of Agriculture to approve state plans to provide temporary emergency Supplemental Nutrition Assistance Program (SNAP) assistance to households with children who would otherwise receive free or reduced-price meals if not for their schools being closed due to the COVID-19 emergency (also known as Pandemic EBT, or P-EBT). The authority for P-EBT under FFCRA expired on September 30, 2020. The Continuing Appropriations Act, 2021 and Other Extensions Act (Pub. L. 116-159), enacted October 1, 2020 extended the authority for P-EBT through September 30, 2021. This legislation also expanded the program to include child care facilities affected by the closures and schools with reduced attendance hours. The Consolidated Appropriations Act, 2021 (Pub. L. 116-260), enacted December 27, 2020, provided additional eligibility requirements and State flexibilities for both school and child care components of this program. The American Rescue Plan Act of 2021 (ARPA, Pub. L. 117-2) enacted on March 11 made several significant changes to P-EBT. Among these changes is the extension of P-EBT to the summer of 2021, school year 2021-2022, and summer 2022.

Per Public Law 116-159, and in order to operate P-EBT for Federal Fiscal Year 2021 and summer 2021, each State must submit a State plan to FNS Regional Office for approval. Once approved, in addition to administering P-EBT, each State SNAP agency will also be required to provide monthly reports via the FNS-292B (Disaster Relief) to the FNS Regional Office, regarding the number of eligible children receiving P-EBT benefits, number of households receiving such benefits, and the total value of the benefits. The State is expected to provide data that:

• Differentiates between non-SNAP and current SNAP households receiving P-EBT,

• within SNAP households, differentiate between base SNAP benefits and P-EBT benefits.

Each State is also expected to separately identify P-EBT participation and benefit issuance on the FNS-388 (State Issuance and Participation Estimates) and FNS-46 (Issuance Reconciliation Report) reports. There is no additional burden associated with this requirement, as the States already report participation data to FNS on the FNS-388 and FNS-46 on a monthly basis.

FNS will provide funding to each State's SNAP State agency for 100% of P-EBT-related administrative costs. Such funding will be available for the necessary, allowable, and reasonable State agency costs associated with the administration of P-EBT incurred during FY 2021. This includes administrative costs associated with the issuance of retroactive FY 2020 benefits incurred in FY 2021. States interested in the 100% funding will be expected to submit a P-EBT administrative cost plan for the intended period of operations for USDA approval using the FNS-366A (Program and Budget Summary Statement: Budget Projection). During the period of performance of the 100% funding, the SNAP State agency will be expected to aggregate obligation and outlay data from all State agencies utilizing the 100% funding and report quarterly to USDA using a P-EBT specific instance of the SF-425 (Federal Financial Report).

The current burden for a State agency to submit FNS-292B, FNS-388, FNS-46, FNS-366A and SF-425 reports is currently captured under the information collection for the Food Programs Reporting System (FPRS), OMB Control Number 0584-0594 (expiration date 7/31/23). The Food Programs Reporting System is the Federal system State agencies use to report FNS Program data to FNS. Therefore, this information collection estimates burden hours associated with P-EBT that are above the currently approved hours in 0584-0594 for forms FNS-292B, FNS-366A, and SF-425 for normal Program operations.

In order to determine eligibility and benefit levels for P-EBT, State agencies must collect data from schools. To administer P-EBT during the school year, schools must provide the State with predominant learning model (fully virtual, hybrid, or fully in-person) used by the school for each month of the school year. States generally are collecting this information every couple of months during the school year. This information is used to determine the benefit levels children are eligible to receive. Schools that operated predominantly fully virtual or hybrid learning models must also provide a list of students that have been determined eligible for free and reduced price meals. States use these two pieces of information reported by the school to issue benefits to eligible households. Per Public Law 117-2, during the summer months all children eligible for free or reduced price meals that are enrolled in schools that participate in the National School Lunch Program are considered eligible for P-EBT. This requires all schools to provide the State agency with a list of children who have been determined eligible for free and reduced price meals.

FNS will provide funding to each State's SNAP State agency for 100% of P-EBT-related school level administrative costs. Such funding will be available for the necessary, allowable, and reasonable State agency costs associated with the administration of P-EBT incurred during FY 2021. In order to receive this funding, schools must report to their State agency on the school level costs incurred to administer P-EBT.

Eligibility and benefit levels for the child care portion of P-EBT are determined without needing to collect additional information. State agencies use SNAP enrollment status data to determine eligibility and school learning model data they are already collecting to administer the schools component of P-EBT to determine benefit levels.

This submission seeks OMB approval of this revision to an existing collection (OMB Control # 0584-0660, expiration 8/31/2021) for activities associated with administering P-EBT.

The currently approved burden for this collection is 693,098 hours. FNS estimates the new burden at 3,684,928 burden hours, which is an increase of approximately 2,991,831 hours.

The currently approved total annual responses are 3,320,954; we are requesting 10,379,211, which is an increase of 7,058,257 total annual responses.

Affected Public: State Government, Schools, Individual/Households. Respondents include State agencies (including District of Columbia, and Territories), schools, and participants.

Estimated Number of Respondents: The total estimated number of respondents is 675,820. This includes: State agencies (53), schools (94,767), Individuals/Households (581,000 participants).

Estimated Number of Responses per Respondent: The total estimated number of responses per respondent for this collection is 15.

Estimated Total Annual Responses: The total estimated number of annual responses for this collection is 10,379,211.

Estimated Time per Response: The estimated time per response averages approximately 21 minutes (0.355 hours) for all participants.

Estimated Total Annual Burden on Respondents: The estimated total annual burden on respondents for this collection is 3,684,928 hours.

See the table below for the estimated total annual burden for each type of respondent.

Respondent category | Instruments | Form | Number of respondents | Frequency of response | Total annual responses | Responses per respondent | Hours per response | Annual burden (hours)
Individuals/Households | P-EBT Application Submission (Schools Only) | N/A | 581,000 | 1 | 581,000 | 1 | 0.166666667 | 96,833.33
Schools | Student Eligibility Data (School Year) | N/A | 94,767 | 4 | 379,068 | 4 | 1.5 | 568,602.00
| Student Eligibility Data (Summer) | N/A | 94,767 | 1 | 94,767 | 1 | 0.5 | 47,383.50
| P-EBT Local Level Administrative Cost Reporting to State | N/A | 94,767 | 1 | 94,767 | 1 | 1 | 94,767.00
Schools Subtotal |  |  | 94,767 | 2 | 568,602 | 6 | 1 | 710,752.50
State Agencies | State Plan Submission—P-EBT (Schools + Child Care For School Year) | N/A | 53 | 1 | 53 | 1 | 1 | 53.00
| State Plan Submission—P-EBT (Schools + Child Care For Summer) | N/A | 53 | 1 | 53 | 1 | 1 | 53.00
| P-EBT Household Eligibility Determination (Schools + Child Care) | N/A | 53 | 1 | 8,660,000 | 163,396 | 0.25 | 2,165,000.00
| Monthly P-EBT Reporting to FNS (Schools + Child Care) | FNS-292B | 53 | 12 | 636 | 12 | 1 | 636.00
| P-EBT Administrative Cost Plan (100% funding) (Schools + Child Care) | FNS-366A | 53 | 1 | 53 | 1 | 12 | 636.00
| P-EBT Quarterly Administrative Cost Report (100% funding) (Schools + Child Care) | SF-425 | 53 | 4 | 212 | 4 | 1 | 212.00
SA Subtotal |  |  | 53 | 163,415.226 | 8,661,007 | 163,415 | 0.250 | 2,166,590.00
Grand Total |  |  | 675,820 | 15.358 | 10,379,211 | 15 | 0.355 | 3,684,928.33

Cynthia Long,
Acting Administrator, Food and Nutrition Service.

[FR Doc. 2021-09916 Filed 5-10-21; 8:45 am]

BILLING CODE 3410-30-P